DEPARTMENT OF COMMERCE

National Oceanic and Atmospheric Administration

RIN 0648-XA495

Marine Mammals; File No. 16000

AGENCY: National Marine Fisheries Service (NMFS), National Oceanic and Atmospheric Administration (NOAA), Commerce.

ACTION: Notice; issuance of permit.

SUMMARY: Notice is hereby given that a permit has been issued to Wild Horizons LTD, 59 Cotham Hill, Cotham, Bristol, BS6 6JR, United Kingdom to conduct commercial/educational photography.

ADDRESSES: The permit and related documents are available for review upon written request or by appointment in the following offices: Permits, Conservation and Education Division, Office of Protected Resources, NMFS, 1315 East-West Highway, Room 13705, Silver Spring, MD 20910; phone (301) 713-2289; fax (301) 713-0376; and Southeast Region, NMFS, 263 13th Avenue South, Saint Petersburg, Florida 33701; phone (727) 824-5312; fax (727) 824-5309.

FOR FURTHER INFORMATION CONTACT: Joselyd Garcia-Reyes or Kristy Beard, (301) 713-2289.

SUPPLEMENTARY INFORMATION: On January 18, 2011, notice was published in the Federal Register (76 FR 2888) that a request for a permit to conduct commercial/educational photography of bottlenose dolphins (Tursiops truncatus) had been submitted by the above-named applicant. The requested permit has been issued under the authority of the Marine Mammal Protection Act of 1972, as amended (16 U.S.C. 1361 et seq.) and the regulations governing the taking and importing of marine mammals (50 CFR part 216).

Wild Horizons LTD is authorized to film bottlenose dolphin strand feeding events in the estuaries and creeks of Bull Creek and around Hilton Head, South Carolina. Filmmakers may use two filming platforms: an inflatable 21ft boat and a helicopter. Up to 500 dolphins annually may be approached and filmed. Footage will be used to create a 7-part television series, Wild Planet: North America, for the Discovery Channel. The premise of the series is to provide a definitive guide to the natural history of the North American Continent and have a dedicated episode on each biome. The permit will expire August 31, 2012.

In compliance with the National Environmental Policy Act of 1969 (42 U.S.C. 4321 et seq.), a final determination has been made that the activity proposed is categorically excluded from the requirement to prepare an environmental assessment or environmental impact statement.

Dated: June 13, 2011.
P. Michael Payne,
Chief, Permits, Conservation and Education Division, Office of Protected Resources, National Marine Fisheries Service.

[FR Doc. 2011-15155 Filed 6-16-11; 8:45 am]

BILLING CODE 3510-22-P